DEPARTMENT OF ENERGY

Federal Energy Regulatory Commission

Combined Notice of Filings #2

Take notice that the Commission received the following electric corporate filings:

Docket Numbers: EC11-39-000.

Applicants: EFS Southeast PowerGen, LLC, Utility Corporation, AL Sandersville, LLC, Effingham County Power, LLC, MPC Generating, LLC, Walton County Power, LLC, Washington County Power, LLC.

Description: Joint Application for Authorization of Disposition of Facilities Under Section 203 of the FPA and Request for Confidential Treatment, Expedited Consideration and Waivers of EFS Southeast PowerGen, LLC, et al.

Filed Date: 02/01/2011.

Accession Number: 20110201-5080.

Comment Date: 5 p.m. Eastern Time on Tuesday, February 22, 2011.

Take notice that the Commission received the following electric rate filings:

Docket Numbers: ER94-1384-040; ER99-2329-011; ER00-1803-010; ER01-457-011; ER03-1108-013; ER03-1109-013; ER04-733-009; ER08-1432-007; ER09-621-005.

Applicants: Morgan Stanley Capitol Group Inc., Naniwa Energy LLC, Utility Contract Funding II, LLC, Power Contract Financing II, L.L.C., Power Contract Financing II, Inc., TAQA Gen X LLC, South Eastern Electric Development Corp., South Eastern Generating Corp., MS Solar Solutions Corp.

Description: Notice of Change in Status of Morgan Stanley Capital Group Inc., et al.

Filed Date: 01/31/2011.

Accession Number: 20110131-5375.

Comment Date: 5 p.m. Eastern Time on Tuesday, February 22, 2011.

Docket Numbers: ER03-329-010; ER07-597-005.

Applicants: NorthWestern Corporation; Montana Generation, LLC.

Description: North Western Corporation submits response to Data Request for Market-Based Rate Authorization.

Filed Date: 01/21/2011.

Accession Number: 20110126-0029.

Comment Date: 5 p.m. Eastern Time on Friday, February 11, 2011.

Docket Numbers: ER10-2011-002; ER10-2008-001; ER10-2009-001; ER10-2016-001.

Applicants: PPL Montana, LLC, PPL Colstrip I, LLC, PPL Colstrip II, LLC, PPL EnergyPlus, LLC.

Description: Triennial Market-Based Rate Update of the PPL Northwest Companies.

Filed Date: 01/31/2011.

Accession Number: 20110131-5369.

Comment Date: 5 p.m. Eastern Time on Monday, April 04, 2011.

Docket Numbers: ER10-2172-002; ER10-2174-002; ER10-2176-002; ER10-2178-002; ER10-2180-002; ER10-2183-001; ER10-2184-002; ER10-3308-002; ER11-2383-001

Applicants: Constellation Energy Commodities Group, Baltimore Gas and Electric Company, Constellation Pwr Source Generation LLC, Constellation NewEnergy, Inc., CER Generation II, LLC, Safe Harbor Water Power Corporation, Handsome Lake Energy, LLC, Constellation Energy Commodities Group M, CER Generation, LLC, Criterion Power Partners, LLC.

Description: Notice of Change in Status of Baltimore Gas and Electric Company, et al.

Filed Date: 01/31/2011.

Accession Number: 20110131-5288.

Comment Date: 5 p.m. Eastern Time on Tuesday, February 22, 2011.

Docket Numbers: ER10-2179-003; ER10-2181-003; ER10-2182-003.

Applicants: R.E. Ginna Nuclear Power Plant, LLC, Calvert Cliffs Nuclear Power Plant, LLC, Nine Mile Point Nuclear Station, LLC.

Description: Notice of Change in Status of Calvert Cliffs Nuclear Power Plant, LLC, et al.

Filed Date: 01/31/2011.

Accession Number: 20110131-5287.

Comment Date: 5 p.m. Eastern Time on Tuesday, February 22, 2011.

Docket Numbers: ER10-2570-002; ER10-2578-003; ER10-2633-002; ER10-2717-002; ER10-2718-002; ER10-2719-002; ER10-3140-002.

Applicants: Shady Hills Power Company LLC; Fox Energy Company, LLC; Birchwood Power Partners, L.P.; EFS Parlin Holdings, L.L.C.; Cogen Technologies Linden Venture, L.P.; East Coast Power Linden Holding, L.L.C.; Inland Empire Energy Center, LLC.

Description: Notice of Non-Material Change in Status of GE COMPANIES, et al.

Filed Date: 01/31/2011.

Accession Number: 20110131-5366.

Comment Date: 5 p.m. Eastern Time on Tuesday, February 22, 2011.

Docket Numbers: ER10-3096-001.

Applicants: Public Service Company of New Mexico.

Description: Public Service Company of New Mexico submits tariff filing per 35: WestConnect Experimental Tariff Compliance Filing to be effective 9/28/2010.

Filed Date: 02/01/2011.

Accession Number: 20110201-5002.

Comment Date: 5 p.m. Eastern Time on Tuesday, February 22, 2011.

Docket Numbers: ER11-2354-001.

Applicants: Sustainable Star.

Description: Sustainable Star submits tariff filing per 35.17(b): Market Based Initial Application to be effective 12/14/2010.

Filed Date: 02/01/2011.

Accession Number: 20110201-5074.

Comment Date: 5 p.m. Eastern Time on Tuesday, February 22, 2011.

Docket Numbers: ER11-2808-000.

Applicants: Southwest Power Pool, Inc.

Description: Southwest Power Pool, Inc. submits tariff filing per 35.13(a)(2)(iii: 1166R12 Oklahoma Municipal Power Authority NITSA and NOA to be effective 1/1/2011.

Filed Date: 01/31/2011.

Accession Number: 20110131-5277.

Comment Date: 5 p.m. Eastern Time on Tuesday, February 22, 2011.

Docket Numbers: ER11-2809-000.

Applicants: Kansas City Power & Light Company.

Description: Kansas City Power & Light Company submits tariff filing per 35.1: KCP&L Iatan 2 Filing to be effective 12/31/9998.

Filed Date: 01/31/2011.

Accession Number: 20110131-5280.

Comment Date: 5 p.m. Eastern Time on Tuesday, February 22, 2011.

Docket Numbers: ER11-2810-000.

Applicants: The Empire District Electric Company.

Description: The Empire District Electric Company submits tariff filing per 35.12: Single Tariff Sheet for KCPL Iatan Unit 2 & Common Facilities Ownership Agmt to be effective 9/17/2010.

Filed Date: 01/31/2011.

Accession Number: 20110131-5281.

Comment Date: 5 p.m. Eastern Time on Tuesday, February 22, 2011.

Docket Numbers: ER11-2811-000.

Applicants: KCP&L Greater Missouri Operations Company.

Description: KCP&L Greater Missouri Operations Company submits tariff filing per 35.1: GMO Iatan 2 Filing to be effective 12/31/9998.

Filed Date: 01/31/2011.

Accession Number: 20110131-5282.

Comment Date: 5 p.m. Eastern Time on Tuesday, February 22, 2011.

Docket Numbers: ER11-2812-000.

Applicants: Southwest Power Pool, Inc.

Description: Southwest Power Pool, Inc. submits tariff filing per 35.13(a)(2)(iii: 607R12 Westar Energy, Inc. NITSA and NOA to be effective 1/1/2011.

Filed Date: 01/31/2011.

Accession Number: 20110131-5284.

Comment Date: 5 p.m. Eastern Time on Tuesday, February 22, 2011.

Docket Numbers: ER11-2813-000.

Applicants: Southern California Edison Company.

Description: Southern California Edison Company Submits Cancellation of Letter Agreement with Brea Power II Service Agreement 214.

Filed Date: 01/31/2011.

Accession Number: 20110131-5147.

Comment Date: 5 p.m. Eastern Time on Tuesday, February 22, 2011.

Docket Numbers: ER11-2814-000.

Applicants: American Transmission Systems, Incorporated, PJM Interconnection, L.L.C.

Description: American Transmission Systems, Incorporated submits tariff filing per 35.13(a)(2)(iii: Revisions to the TOA Sections 7.3.5 and Attach A re the ATSI Integration to be effective 6/1/2011.

Filed Date: 02/01/2011.

Accession Number: 20110201-5123.

Comment Date: 5 p.m. Eastern Time on Tuesday, February 22, 2011.

Docket Numbers: ER11-2815-000.

Applicants: American Transmission Systems, Incorporated, PJM Interconnection, L.L.C.

Description: American Transmission Systems, Incorporated submits tariff filing per 35.13(a)(2)(iii: Revisions to the OATT, OA and RAA sections for the ATSI Integration to be effective 6/1/2011.

Filed Date: 02/01/2011

Accession Number: 20110201-5125.

Comment Date: 5 p.m. Eastern Time on Tuesday, February 22, 2011.

Take notice that the Commission received the following electric securities filings:

Docket Numbers: ES11-17-000.

Applicants: FirstEnergy Service Company, Monongahela Power Company, The Potomac Edison Company, West Penn Power Company, Trans-Allegheny Interstate Line Company.

Description: Application of FirstEnergy Service Company, et al. for authorization for Monongahela Power Company, Potomac Edison Company, West Penn Power Company, and Trans-Allegheny Interstate Line Company to engage in short-term borrowing.

Filed Date: 01/31/2011.

Accession Number: 20110131-5373.

Comment Date: 5 p.m. Eastern Time on Tuesday, February 22, 2011.

Take notice that the Commission received the following land acquisition reports:

Docket Numbers: LA10-4-000.

Applicants: Arlington Valley, LLC; Bluegrass Generation Company, L.L.C.; Bridgeport Energy LLC; DeSoto County Generating Company, LLC; Griffith Energy LLC; Las Vegas Power Company, LLC; LSP Safe Harbor Holdings, LLC; LS Power Marketing, LLC; Renaissance Power, L.L.C.; Riverside Generating Company, L.L.C.; Rocky Road Power, LLC; Tilton Energy LLC.

Description: Quarterly Land Acquisition Report of Arlington Valley, LLC, et al.

Filed Date: 01/31/2011.

Accession Number: 20110131-5352.

Comment Date: 5 p.m. Eastern Time on Tuesday, February 22, 2011.

Docket Numbers: LA10-4-000.

Applicants: CinCap IV, LLC; CinCap V, LLC; Duke Energy Business Services, LLC; Duke Energy Carolinas, LLC; Duke Energy Commercial Asset Management, Inc.; Duke Energy Commercial Enterprises, Inc.; Duke Energy Fayette II, LLC; Duke Energy Hanging Rock II, LLC; Duke Energy Indiana, Inc.; Duke Energy Lee II, LLC; Duke Energy Ohio, Inc.; Duke Energy Retail Sales, LLC; Duke Energy Trading and Marketing, LLC; Duke Energy Vermillion II, LLC; Duke Energy Washington II, LLC; Happy Jack Windpower, LLC; Kit Carson Windpower, LLC; North Allegheny Wind, LLC; Silver Sage Windpower, LLC; St. Paul Cogeneration, LLC; Three Buttes Windpower, LLC; Top of the World Energy, LLC .

Description: Report/Form of Duke Energy Corporation under LA10-4.

Filed Date: 01/31/2011.

Accession Number: 20110131-5162.

Comment Date: 5 p.m. Eastern Time on Tuesday, February 22, 2011.

Docket Numbers: LA10-4-000.

Applicants: BP Energy Company; BP West Coast Products LLC; Cedar Creek Wind Energy, LLC; Cedar Creek II, LLC; Flat Ridge Wind Energy, LLC; Fowler Ridge II Wind Farm LLC; Fowler Ridge III Wind Farm LLC; Fowler Ridge Wind Farm LLC; Goshen Phase II LLC; Rolling Thunder I Power Partners, LLC; Watson Cogeneration Company; Whiting Clean Energy, Inc.

Description: Quarterly Land Acquisition Report of BP Energy Company, et al.

Filed Date: 01/31/2011.

Accession Number: 20110131-5163.

Comment Date: 5 p.m. Eastern Time on Tuesday, February 22, 2011.

Docket Numbers: LA10-4-000.

Applicants: PPL Electric Utilities Corporation; Lower Mount Bethel Energy, LLC; PPL Brunner Island, LLC; PPL Holtwood, LLC; PPL Martins Creek, LLC; PPL Montour, LLC; PPL Susquehanna, LLC; PPL University Park, LLC; PPL EnergyPLus, LLC; PPL Great Works, LLC; PPL Maine, LLC; PPL Wallingford Energy LLC; PPL New Jersey Solar, LLC; PPL New Jersey Biogas, LLC; PPL Renewable Energy, LLC; PPL Montana, LLC; PPL Colstrip I, LLC; PPL Colstrip II, LLC; Louisville Gas and Electric Company; Kentucky Utilities Company; LG&E Energy Marketing, Inc.

Description: 4th Quarter 2010 Site Acquisition Report of the PPL Companies.

Filed Date: 01/31/2011.

Accession Number: 20110131-5212.

Comment Date: 5 p.m. Eastern Time on Tuesday, February 22, 2011.

Docket Numbers: LA10-4-000.

Applicants: Niagara Generation LLC.

Description: Land Acquisition Report (4Q 2010) of Niagara Generation LLC.

Filed Date: 01/31/2011.

Accession Number: 20110131-5259.

Comment Date: 5 p.m. Eastern Time on Tuesday, February 22, 2011.

Docket Numbers: LA10-4-000.

Applicants: Lost Creek Wind, LLC.

Description: Land Acquisition Report (4Q 2010).

Filed Date: 01/31/2011.

Accession Number: 20110131-5371.

Comment Date: 5 p.m. Eastern Time on Tuesday, February 22, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: February 1, 2011.
Nathaniel J. Davis, Sr.,
Deputy Secretary.

[FR Doc. 2011-2937 Filed 2-9-11; 8:45 am]

BILLING CODE 6717-01-P